DEPARTMENT OF DEFENSE

Office of the Secretary

[Docket ID DoD-2021-OS-0055]

Request for Information Related to IP Evaluation and Valuation Methods and Techniques

AGENCY: Office of the Deputy Assistant Secretary of Defense (Acquisition Enablers), Department of Defense (DoD).

ACTION: Request for information; extension of comment period.

SUMMARY: On July 1, 2021, the DoD published a notice soliciting information from the public (including, but not limited to, the private sector, academia, and other interested parties) related to Intellectual Property (IP) evaluation and valuation methods and techniques. Subsequent to publication of the notice, DoD is extending the comment period from August 2, 2021 to September 17, 2021.

DATES: The comment period for the notice published on July 1, 2021 (86 FR 35076-35078) is extended. The due date for submitting comments is September 17, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: Mr. George Winborne, Communications, Knowledge and Performance Management Lead, Intellectual Property Cadre, Office of the USD (Acquisition & Sustainment), at 202-815-3995, or email: george.o.winborne.civ@mail.mil.

SUPPLEMENTARY INFORMATION: The public comment period in extended to September 17, 2021. All other information in the notice of July 1, 2021 remains the same.

Dated: August 3, 2021.
Aaron T. Siegel,
Alternate OSD Federal Register Liaison Officer, Department of Defense.

[FR Doc. 2021-16848 Filed 8-5-21; 8:45 am]

BILLING CODE 5001-06-P